ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, Monday and Wednesday, November 13 and 15, 2006, at the times and location noted below.

DATES: The schedule of events is as follows:

Monday, November 13, 2006

10:30 a.m.-Noon, Planning and Evaluation Committee.

1:30-2:30 p.m., Budget Committee.

2:30-4:30, Technical Programs Committee.

Wednesday, November 15, 2006

10 a.m.-Noon, Committee of the Whole on Rulemaking (Closed Session).

1:30-3 p.m., Board Meeting.

3-4:30 p.m., Courthouse Access Advisory Committee Presentation.

ADDRESSES: All meetings will be held at the Marriott at Metro Center Hotel, 775 12th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the July 25, 2006 draft Board Meeting Minutes.

• Planning and Evaluation Committee Report.

• Budget Committee Report.

• Technical Programs Committee Report.

• Committee of the Whole on Rulemaking Report.

Immediately following the Board meeting, the Access Board will hear the final report of the Courthouse Access Advisory Committee (CAAC); the CAAC presentation is noticed separately in today's Federal Register. All meetings are accessible to persons with disabilities. An assistive listening system, computer assisted real-time transcription (CART), and sign language interpreters will be available at the Board meetings. Persons attending Board meetings are requested to refrain from using perfume, cologne, and other fragrances for the comfort of other participants.

Lawrence W. Roffee,
Executive Director.

[FR Doc. E6-18165 Filed 10-27-06; 8:45 am]

BILLING CODE 8150-01-P